FEDERAL HOUSING FINANCE BOARD

Sunshine Act; Meeting Announcing an Open Meeting of the Board

Time and Date: 10 a.m., Wednesday, October 9, 2002.

Place: Board Room, Second Floor, Federal Housing Finance Board, 1777 F Street, NW., Washington, DC 20006.

Status: The entire meeting will be open to the public.

Matter to Be Considered: • Amendment to the Federal Home Loan Bank of Seattle Capital Plan.

• Amendment to the Federal Home Loan Bank of Indianapolis Capital Plan.

• Federal Home Loan Bank of Dallas Request for an additional Elective Director from the State of Texas.

• Public Interest Director—Board of Directors Office of Finance (Tentative).

Contact Person for More Information: Elaine L. Baker, Secretary to the Board, (202) 408-2837.

Elaine L. Baker,
Secretary to the Board.

[FR Doc. 02-25498 Filed 10-2-02; 4:33 pm]

BILLING CODE 6725-01-P